CONSUMER PRODUCT SAFETY COMMISSION

Sunshine Act Meeting

AGENCY: U.S. Consumer Product Safety Commission.

Time and Date: Friday, September 21, 2001, 10 a.m.

Location: Room 420, East West Towers, 4330 East West Highway, Bethesda, Maryland.

Status: Open to the Public.

Matter To Be Considered:

Mattresses/Bedding

The staff will brief the Commission and the Commission will consider options addressing open flame ignition of mattresses/bedding and issues related to Petitions FP 00-1 through FP 00-4, submitted by Whitney A. Davis, Director of Children's Coalition for Fire-Safe Mattresses, requesting various actions concerning mattress flammability.

For a recorded message containing the latest agenda information, call (301) 504-0709.

FOR FURTHER INFORMATION CONTACT: Todd A. Stevenson, Office of the Secretary, 4330 East West Highway, Bethesda, MD 20207 (301) 504-0800.

Dated: September 17, 2001.
Todd A. Stevenson,
Acting Secretary.

[FR Doc. 01-23559 Filed 9-20-01; 8:45 am]

BILLING CODE 6355-01-M